DEPARTMENT OF COMMERCE

International Trade Administration

[A-823-805]

Notice of Extension of Time Limits for the Final Results of Administrative Review of the Suspension Agreement on Silicomanganese From Ukraine

AGENCY: Import Administration, International Trade Administration, Department of Commerce.

ACTION: Notice of extension of time limits for the final results of administrative review of the suspension agreement on silicomanganese from Ukraine.

SUMMARY: The Department of Commerce (“the Department”) is extending the time limits for the final results of the administrative review on the suspension agreement on silicomanganese from Ukraine.

EFFECTIVE DATE: February 14, 2001.

FOR FURTHER INFORMATION CONTACT: Jean Kemp or Carrie Blozy; Import Administration, International Trade Administration, U.S. Department of Commerce, 14th and Constitution Avenue, NW., Washington DC 20230; telephone: (202) 482-4037 or (202) 482-0165, respectively.

Extension of Final Results

The Department published its notice of initiation of this review in the Federal Register on December 21, 1999 (64 FR 72644). On December 5, 2000, the Department published the notice of preliminary results of administrative review of the suspension agreement on silicomanganese from Ukraine (65 FR 75921). The final results are currently due no later than April 4, 2001. Because it is not practicable to issue the final results of review by the current deadline, the Department is extending the time limits for the final results of the aforementioned review 60 days, in accordance with section 751(a)(3)(A) of the Tariff Act of 1930 (“the Act”), as amended by the Uruguay Round Agreements Act of 1994 (for a further discussion, see the February 2, 2001 Decision Memorandum from Edward C. Yang to Joseph A. Spetrini: Request to Extend Final Results in the Review of the Antidumping Duty Suspension Agreement on Silicomanganese from Ukraine).

This extension of time limits is in accordance with section 751(a)(3)(A) of the Act.

Dated: February 2, 2001.
Joseph A. Spetrini,
Deputy Assistant Secretary, AD/CVD Enforcement Group III.

[FR Doc. 01-3763 Filed 2-13-01; 8:45 am]

BILLING CODE 3510-DS-P